FEDERAL MARITIME COMMISSION

Ocean Transportation Intermediary License Revocations

The Commission gives notice that the following Ocean Transportation Intermediary licenses have been revoked pursuant to section 19 of the Shipping Act of 1984 (46 U.S.C. 40101) effective on the date shown.

License No.: 3667NF.

Name: Atlant (USA), Inc.

Address: 250 West Artesia Blvd., Compton, CA 90220.

Date Revoked: October 6, 2012.

Reason: Failed to maintain valid bonds.

License No.: 004242F.

Name: Salinas International Freight Co. dba Globe Express Services.

Address: 535 Regal Row, Dallas, TX 75247.

Date Revoked: October 10, 2012.

Reason: Voluntary surrender of license.

License No.: 020442N.

Name: JWJ Express Inc.

Address: 149-23 182nd Street, Suite 100, Jamaica, NY 11413.

Date Revoked: October 23, 2012.

Reason: Voluntary surrender of license.

License No.: 015574N.

Name: WW Messenger & Shipping Co.

Address: 150 Main Street, Unit 9, Orange, NJ 07050.

Date Revoked: October 15, 2012.

Reason: Failed to maintain a valid bond.

License No.: 019370F.

Name: Cheryl G. Wilson dba JC Logistics.

Address: 28612 Redondo Beach Drive South, Des Moines, WA 98198.

Date Revoked: October 23, 2012.

Reason: Voluntary surrender of license.

License No.: 019480NF.

Name: Intrans Logistics, Inc.

Address: 77 Paloma Avenue, Suite 33, Pacifica, CA 94044.

Date Revoked: October 5, 2012.

Reason: Failed to maintain valid bonds.

License No.: 019599F.

Name: Trans Global Services, L.L.C.

Address: 1600 Wilson Blvd., Suite 1210, Arlington, VA 22209.

Date Revoked: October 15, 2012.

Reason: Voluntary surrender of license.

License No.: 022069N.

Name: Unique Logistics International (ATL) LLC.

Address: 510 Plaza Drive, Suite 2290, Atlanta, GA 30349.

Date Revoked: October 15, 2012.

Reason: Failed to maintain a valid bond.

License No.: 022136N.

Name: Sterling Logistics Group, LLC.

Address: 18 Augusta Pines Drive, Suite 283-W, Spring, TX 77389.

Date Revoked: October 14, 2012.

Reason: Failed to maintain a valid bond.

License No.: 022330NF.

Name: Fluent Logistics LLC.

Address: 4770 Highway 165, Meggett, SC 29449.

Date Revoked: October 19, 2012.

Reason: Failed to maintain valid bonds.

License No.: 022432N.

Name: Acher and Chex International, LLC.

Address: 123 Polaris Drive, Walkersville, MD 27193.

Date Revoked: September 19, 2012.

Reason: Failed to maintain a valid bond.

License No.: 022554F.

Name: Saheed Olalekan Bello dba Sahbell International Services.

Address: 8180 Southwest Freeway, Houston, TX 77074.

Date Revoked: October 7, 2012.

Reason: Failed to maintain a valid bond.

License No.: 023553NF.

Name: Airbridge Corp.

Address: 22 Stonehurst Lane, Dix Hills, NY 11746.

Date Revoked: October 17, 2012.

Reason: Failed to maintain valid bonds.

Vern W. Hill,
Director, Bureau of Certification and Licensing.

[FR Doc. 2012-27967 Filed 11-15-12; 8:45 am]

BILLING CODE 6730-01-P